DEPARTMENT OF THE INTERIOR

National Park Service

[NPS-WASO-CR-16552; PPWOCRADI0, PCU00RP14.R50000]

Information Collection Request Sent to the Office of Management and Budget (OMB) for Approval; Procedures for State, Tribal, and Local Government Historic Preservation Programs

AGENCY: National Park Service, Interior.

ACTION: Notice; request for comments.

SUMMARY: We (National Park Service) have sent an Information Collection Request (ICR) to OMB for review and approval. We summarize the ICR below and describe the nature of the collection and the estimated burden and cost. This information collection is scheduled to expire on August 31, 2014. We may not conduct or sponsor and a person is not required to respond to a collection of information unless it displays a currently valid OMB control number. However, under OMB regulations, we may continue to conduct or sponsor this information collection while it is pending at OMB.

DATES: You must submit comments on or before September 29, 2014.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 1849 C Street NW. (2601), Washington, DC 20240 (mail); or madonna_baucum@nps.gov (email). Please include “1024-0038” in the subject line of your comments.

FOR FURTHER INFORMATION CONTACT: To request additional information about this ICR, contact John Renaud at John_Renaud@nps.gov (email) or at (202) 371-1961 (fax). You may review the ICR online at http://www.reginfo.gov. Follow the instructions to review Department of the Interior collections under review by OMB.

SUPPLEMENTARY INFORMATION:

OMB Control Number: 1024-0038.

Title: Procedures for State, Tribal, and Local Government Historic Preservation Programs, 36 CFR 61.

Service Form Number(s): None.

Type of Request: Revision of a currently approved collection.

Description of Respondents: State, tribal, and local governments.

Respondent's Obligation: Required to obtain or retain a benefit.

Frequency of Collection: Annually or on occasion.

Activity | Annual number of responses | Completion time per response (hours) | Total annual burden hours
Local Government Certification Application/Agreement | 40 | 39.75 | 1,590
Certified Local Government Monitoring | 1,860 | 7.25 | 13,485
Certified Local Government Evaluations | 465 | 12.00 | 5,580
Baseline Questionnaire for CLGs | 250 | 6.00 | 1,500
Annual Achievements Report for CLGs | 1,000 | 2.00 | 2,000
State Inventory Maintenance | 26,904 | .25 | 6,726
State Technical Assistance to Federal Agencies (Review & Compliance) | 25,370 | .25 | 6,343
Statewide Historic Preservation Plan | 14 | 797.00 | 11,158
State Program Review | 15 | 90.00 | 1,350
State Cumulative Products Table | 89 | 10.00 | 890
State Organization Chart and Staffing Summary | 30 | 2.00 | 60
State Anticipated Activities List | 30 | 5.75 | 173
State Project Notification | 59 | 1.50 | 89
State Final Project Report | 59 | 1.00 | 59
State Project/Activity Database Report | 59 | 18.25 | 1,077
State Sources of Non-Federal Matching Share Report | 52 | 2.25 | 117
State Significant Preservation Accomplishments Summary | 59 | 3.75 | 221
Annual Achievements Report for States | 25 | 2.25 | 56
Tribal Historic Preservation Office (THPO) Grants Product Summary Page | 150 | 15.50 | 2,325
THPO Annual Report | 150 | 23.00 | 3,450
Total | 56,680 |  | 58,249

Estimated Annual Nonhour Burden Cost: $90,836.

Comments:

On April 17, 2014, we published in the Federal Register (79 FR 21792) a notice of our intent to request that OMB renew approval for this information collection. In that notice, we solicited comments for 60 days, ending on June 16, 2014. We did not receive any comments in response to this notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 25, 2014.
Madonna L. Baucum,
Information Collection Clearance Officer, National Park Service.

[FR Doc. 2014-20621 Filed 8-28-14; 8:45 am]

BILLING CODE 4310-EH-P